DEPARTMENT OF THE INTERIOR

National Park Service

[NPS-WASO-NAGPRA-NPS0035850; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK), has completed an inventory of human remains and associated funerary objects and has determined that there is a cultural affiliation between the human remains and associated funerary objects and Indian Tribes or Native Hawaiian organizations in this notice. The human remains and associated funerary objects were removed from Benton, Henry, Humphreys, Stewart, and Williamson Counties, TN, as well as from an unknown county in TN.

DATES: Repatriation of the human remains and associated funerary objects in this notice may occur on or after June 12, 2023.

ADDRESSES: Dr. Ozlem Kilic, University of Tennessee, Office of the Provost, 527 Andy Holt Tower, Knoxville, TN 37996-0152, telephone (865) 974-2454, email okilic@utk.edu and vpaa@utk.edu.

SUPPLEMENTARY INFORMATION: This notice is published as part of the National Park Service's administrative responsibilities under NAGPRA. The determinations in this notice are the sole responsibility of UTK. The National Park Service is not responsible for the determinations in this notice. Additional information on the determinations in this notice, including the results of consultation, can be found in the inventory or related records held by UTK.

Description

Likely in 1991, human remains representing, at minimum, one individual were removed from Benton County, TN, near Pilot Knob State Park, by an unknown individual. That year, these human remains were turned over to law enforcement officials and transferred to the Forensic Anthropology Center (FAC) at UTK (case number 91-39). They remained at the FAC until 2022, at which time they were transferred to the UTK Office of Repatriation (OR). No associated funerary objects are present.

On July 15, 1992, human remains representing, at minimum, four individuals were removed from Kentucky Lake, in Henry County, TN, by a mussel diver. These human remains were taken to local law enforcement officials, who then transferred them to William Bass at UTK. Following Bass' examination, the human remains were housed at the FAC (case number 92-19). They remained at the FAC until 2022, at which time they were transferred to the OR. The one associated funerary object is one lot consisting of lithics.

On September 2, 1985, human remains representing, at minimum, one individual were removed from the bank of Kentucky Lake in Humphreys County, TN. An individual saw the ancestral human remains while fishing nearby and alerted local law enforcement officials, who contacted William Bass at UTK to examine the human remains. Following Bass' assessment (completed on September 9, 1985), the human remains were transferred to the FAC (case number 85-20). They remained at the FAC until 2022, at which time they were transferred to the OR. No associated funerary objects are present.

Human remains representing, at minimum, three individuals were removed from the bank of an unknown region of the Cumberland River in Stewart County, TN. They were removed by an unknown individual and turned over to law enforcement officials, who contacted William Bass at UTK and transferred the human remains to UTK for examination. Following the examination, the human remains were housed at the FAC (case number 94-42). They remained at the FAC until 2022, at which time they were transferred to the OR. No associated funerary objects are present.

Human remains representing, at minimum, one individual were removed from an unknown area near the Tennessee River, in Stewart County, TN. The discoverer, a man from Clarksville, TN, took these ancestral human remains to local law enforcement officials, who sent them to UTK for examination on November 2, 1997. Following examination by William Bass, the human remains were housed by the FAC (case number 97-31). They remained at the FAC until 2022, at which time they were transferred to the OR. No associated funerary objects are present.

Human remains representing, at minimum, one individual were removed from the shore of the Harpeth River in Williams County, TN. On March 10, 1996, law enforcement officials were called to the scene after these ancestral human remains were found by a boy playing near the river. The human remains were sent to the FAC for analysis (case number 96-12). They remained at the FAC until 2022, when they were transferred to the OR. No associated funerary objects are present.

Human remains representing, at minimum, one individual were found in Williamson County, TN. On April 8, 2002, a man alerted law enforcement officials that his cousin had discovered these ancestral human remains in a box in a barn. On April 13, 2006, local law enforcement officials transferred the human remains to the FAC for examination (case number 06-10). They remained at the FAC until 2022, at which time they were transferred to the OR. The one associated funerary object is one lot consisting of lithics.

Sometime prior to 1982, human remains representing, at minimum, four individuals were removed from an unknown archeological site in the Kentucky Lake region by Dr. Bobby Brown. Dr. Brown transferred these human remains to the University of Iowa Office of the State Archaeologist (UIOSA). Based on correspondence, in January of 1983, UIOSA transferred the human remains to William Bass at UTK, and since that date, the human remains have been housed there. The two associated funerary objects are one lot consisting of ceramics and one lot consisting of shells.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, biological, geographical, and historical.

Determinations

Pursuant to NAGPRA and its implementing regulations, and after consultation with the appropriate Indian Tribes and Native Hawaiian organizations, UTK has determined that:

• The human remains described in this notice represent the physical remains of 16 individuals of Native American ancestry.

• The four objects described in this notice are reasonably believed to have been placed with or near individual human remains at the time of death or later as part of the death rite or ceremony.

• There is a relationship of shared group identity that can be reasonably traced between the human remains and associated funerary objects described in this notice and the Cherokee Nation; Eastern Band of Cherokee Indians; The Chickasaw Nation; and the United Keetoowah Band of Cherokee Indians in Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 12, 2023. If competing requests for repatriation are received, UTK must determine the most appropriate requestor prior to repatriation. Requests for joint repatriation of the human remains and associated funerary objects are considered a single request and not competing requests. UTK is responsible for sending a copy of this notice to the Indian Tribes identified in this notice.

Authority: Native American Graves Protection and Repatriation Act, 25 U.S.C. 3003, and the implementing regulations, 43 CFR 10.9, 10.10, and 10.14.

Dated: May 5, 2023.
Melanie O'Brien,
Manager, National NAGPRA Program.

[FR Doc. 2023-10032 Filed 5-10-23; 8:45 am]

BILLING CODE 4312-52-P